DEPARTMENT OF THE INTERIOR

National Park Service

Notice of Inventory Completion for Native American Human Remains and Associated Funerary Objects in the Possession of the Department of Anthropology, San Francisco State University, San Francisco, CA

AGENCY: National Park Service, Interior.

ACTION: Notice.

Notice is hereby given in accordance with provisions of the Native American Graves Protection and Repatriation Act (NAGPRA), 43 CFR 10.9, of the completion of an inventory of human remains and associated funerary objects in the possession of the Department of Anthropology, San Francisco State University, San Francisco, CA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by the Department of Anthropology, San Francisco State University professional staff in consultation with representatives of the Round Valley Indian Tribes of the Round Valley Reservation, California.

In 1966, human remains representing one individual were recovered from CA-MEN-748, a site located in Williams Valley, CA, that was excavated by San Francisco State University during the Etsel-Franciscan Reservoir Project. No known individual was identified. The 11 associated funerary objects are olivella beads, trade beads, and chert flakes.

The geographic location of the site and archeological, historical, and oral history evidence indicate that these human remains and associated funerary objects are likely to be Native American and associated with the Yuki Indians. The area of Williams Valley is recognized as being in the historic territory of the Yuki at the time of Euro-American contact. The location of the site on a terrace above a valley is consistent with a contact-period pattern of settlement in which the Yuki relocated to secondary sites after being displaced from their traditional lands. Evidence presented during consultation indicates that the materials recovered are consistent with Yuki material culture.

Based on the above-mentioned information, officials of the Department of Anthropology, San Francisco State University have determined that, pursuant to 43 CFR 10.2 (d)(1), the human remains listed above represent the physical remains of one individual of Native American ancestry. Officials of the Department of Anthropology, San Francisco State University also have determined that, pursuant to 43 CFR 10.2 (d)(2), the 11 objects listed above are reasonably believed to have been placed with or near individual human remains at the time of death or later as part of the death rite or ceremony. Lastly, officials of the Department of Anthropology, San Francisco State University have determined that, pursuant to 43 CFR 10.2 (e), there is a relationship of shared group identity that can be reasonably traced between these Native American human remains and associated funerary objects and the Round Valley Indian Tribes of the Round Valley Reservation, California.

This notice has been sent to officials of the Round Valley Indian Tribes of the Round Valley Reservation, California. Representatives of any other Indian tribe that believes itself to be culturally affiliated with these human remains and associated funerary objects should contact Jeff Fentress, NAGPRA Coordinator, Department of Anthropology, San Francisco State University, 1600 Holloway Avenue, San Francisco, CA 94132, telephone (415) 338-2046, before January 22, 2001. Repatriation of the human remains and associated funerary objects to the Round Valley Indian Tribes of the Round Valley Reservation, California may begin after that date if no additional claimants come forward.

Dated: December 14, 2000.
John Robbins,
Assistant Director, Cultural Resources Stewardship and Partnerships.

[FR Doc. 00-32661 Filed 12-21-00; 8:45 am]

BILLING CODE 4310-70-F